DEPARTMENT OF COMMERCE

Foreign-Trade Zones Board

[S-86-2020]

Approval of Subzone Status; LiCAP Technologies, Sacramento, California

On May 15, 2020, the Executive Secretary of the Foreign-Trade Zones (FTZ) Board docketed an application submitted by the Port of Sacramento, grantee of FTZ 143, requesting subzone status subject to the existing activation limit of FTZ 143, on behalf of LiCAP Technologies, in Sacramento, California.

The application was processed in accordance with the FTZ Act and Regulations, including notice in the Federal Register inviting public comment (85 FR 30929, May 21, 2020). The FTZ staff examiner reviewed the application and determined that it meets the criteria for approval. Pursuant to the authority delegated to the FTZ Board Executive Secretary (15 CFR Sec. 400.36(f)), the application to establish Subzone 143E was approved on July 20, 2020, subject to the FTZ Act and the Board's regulations, including Section 400.13, and further subject to FTZ 143's 2,000-acre activation limit.

Dated: July 20, 2020.
Andrew McGilvray,
Executive Secretary.

[FR Doc. 2020-16329 Filed 7-27-20; 8:45 am]

BILLING CODE 3510-DS-P